DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed Pretest of the “National Longitudinal Survey of Youth 2027.” A copy of the proposed information collection request can be obtained by contacting the individual listed below in the Addresses section of this notice.

DATES: Written comments must be submitted to the office listed in the Addresses section of this notice on or before June 23, 2025.

ADDRESSES: Send comments to Nora Kincaid, BLS Clearance Officer, Division of Management Systems, Bureau of Labor Statistics, by email to BLS_PRA_Public@bls.gov.

FOR FURTHER INFORMATION CONTACT: Nora Kincaid, BLS Clearance Officer, at 202-691-7628 (this is not a toll free number). (See ADDRESSES section.)

SUPPLEMENTARY INFORMATION:

I. Background

Office of Management and Budget clearance is being sought for the Pretest of the “National Longitudinal Survey of Youth 2027.” Since the 1960s, BLS's National Longitudinal Surveys (NLS) have served as the preeminent data for understanding the labor market experiences of youth as they move from schooling to work, as well as for understanding occupational mobility, unemployment, hours worked, and earnings over the lifecycle. By following youth longitudinally for 4 or more decades, the NLS allows researchers and policymakers to investigate a wide variety of pertinent outcomes ranging from sample participants' education, employment, and family formation to their acquisition of assets, their evolving health, and their participation in government programs. The longitudinal and comprehensive approach of the NLSY cohorts provides data to economists, sociologists, and other researchers in government, academia, and private organizations to answer such questions as how wages evolve over time, how schooling and training contribute to the development and maintenance of skills to obtain and keep good jobs over one's career, how individuals navigate work and family responsibilities, and, eventually, how they make decisions about retirement.

The NLS program spans multiple cohorts: the NLS Original Cohorts of Mature Women, Young Women, Older Men, and Young Men beginning in 1966; the National Longitudinal Survey of Youth 1979 (NLSY79), the NLSY 1979 Child and Young Adult (NLSCYA), and the National Longitudinal Survey of Youth 1997 (NLSY97). Together, they provide a singular asset that has helped policymakers understand the evolution of the labor market in the United States from the last half of the 20th century to the new millennium.

The proposed collection will produce information vital for use in developing a new youth cohort, the National Longitudinal Survey of Youth 2027 (NLSY27). Such information includes response behavior of youth and their families, effectiveness of outreach materials and incentives, how the youth and their parents and caregivers comprehend the questionnaires planned for Round 1, perceived burdens to survey participation and ease of use of the NLSY27 instruments, preferences for different collection modes, and reactions to the protocols and procedures developed for NLSY27 implementation.

Respondents in previous NLSY cohorts have been asked questions that provide extensive information on employment, training, education, income, assets, marriage, fertility, health, attitudes toward work, experiences with the criminal justice system, household composition, and occupational and geographical mobility. In addition, the previous cohorts were administered cognitive assessments. BLS anticipates that the new youth cohort will cover these same topics and include assessments of cognitive skills. This Pretest will enable BLS to examine how well these many survey components perform with the target population, so that any needed adjustments can be made in preparation for Round 1.

More information about the NLSY27 cohort and current BLS plans is available at https://www.bls.gov/nls/nlsy27.htm.

II. Current Action

The BLS seeks approval to conduct a Pretest of the National Longitudinal Survey of Youth 2027 (NLSY27). The NLSY27 Pretest sample will yield approximately 800 completed interviews with youth aged 11-16 as of December 31, 2025, and approximately 518 interviews with their parents or caregivers. This sample will be screened and recruited from an initial sample of 13,381 housing units selected from purposively chosen survey areas. The NLSY27 Pretest will collect data for 17 weeks.

The NLSY27 Pretest will seek to interview youth and parents/caregivers selected from purposively chosen survey areas. NLSY27 will attempt to contact 13,381 households, with the expectation that 6,088 of these households will complete a screening instrument to determine if any youth in the eligible age range reside in the housing unit.

The assumption is that 1,218 of the households who complete the screening for eligibility will include eligible youth and these households will complete a more detailed screening instrument that (1) rosters all members of household; (2) confirms date of birth for all potentially eligible youth; and (3) identifies the most appropriate parent, legal guardian, or other caregiver to complete the Parent/Caregiver Survey.

Among the predicted 1,218 households that include an eligible youth, 895 households will be selected to participate in the NLSY27 pretest. Of the 895 households that are selected, the estimated yield is 800 completed interviews by youth and 518 completed interviews by parents or caregivers. The content of the interview will be consistent with the content in the first round of the OMB-approved NLSY97 survey, with some language updates and some changes to the number of items related to each topic, including adding and removing questions across the different topics. Verification calls will be conducted for 10% of Eligibility Screeners and Household Screeners completed in-person.

This Pretest will enable BLS to examine how the survey systems, protocols, and procedures perform with the target population, so that any needed adjustments can be made prior to Round 1. The Pretest will also include some experiments to test survey procedures, the results of which will enable BLS to maximize efficiency and minimize respondent burden in NLSY27 screening and Round 1 data collection.

In addition, results from the Pretest will provide critical information to the BLS to ensure the success of the NLSY27's first round of collection, and in turn, the success of the future of the NLSY27 over the many subsequent rounds that are anticipated.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Pre-Test for the National Longitudinal Survey of Youth 2027.

OMB Number: 1220-NEW.

Type of Review: New Collection.

Affected Public: Individuals or Households.

Table 1—Estimated Annualized Respondent Cost and Hour Burden
Activity | Number of respondents | Number of responses per respondent | Total responses | Average burden (hours) | Total burden (hours)
Eligibility Screener | 6,088 | 1 | 6,088 | 0.083 | 505
Household Screener | 1,218 | 1 | 1,218 | 0.166 | 202
Youth Interview | 800 | 1 | 800 | 1.5 | 1,200
Parent/Caregiver Survey | 518 | 1.39 | 720 | 1.0 | 720
Verification Calls | 292 | 1 | 292 | 0.083 | 24
Total |  |  |  |  | 2,651

Comments submitted in response to this notice will be summarized and/or included in the request for Office of Management and Budget approval of the information collection request; they also will become a matter of public record.

Signed on March 26, 2025.
Eric Molina,
Chief, Division of Management Systems, Branch of Policy Analysis.

[FR Doc. 2025-07064 Filed 4-23-25; 8:45 am]

BILLING CODE 4510-24-P